ENVIRONMENTAL PROTECTION AGENCY

[FRL-7131-6]

Termination of Pesticide Producing Establishments

AGENCY: Environmental Protection Agency (EPA).

ACTION: Notice.

SUMMARY: This document announces the Agency's intention to terminate a number of pesticide producing establishment registrations 45 days following the date of publication of this document for failure to file annual pesticide producing reports as required by section 7 of the Federal Insecticide, Fungicide, and Rodenticide Act (FIFRA).

DATES: The list of domestic and foreign pesticide producing establishments appearing in this document will have their establishment registration terminated March 11, 2002.

FOR FURTHER INFORMATION CONTACT: Domestic pesticide producing establishments should contact the EPA Regional office having jurisdiction for the state where their parent company is located. A listing of the EPA Regional Offices is included in this document. Foreign pesticide producing establishments should contact: Carol L. Buckingham, U.S. Environmental Protection Agency, Office of Enforcement and Compliance Assurance, Agriculture Division (2225A), 1200 Pennsylvania Avenue, NW, Washington, DC 20460, USA, telephone: (202) 564-5008, fax: (202) 564-0085; e-mail: buckingham.carol@epa.gov.

SUPPLEMENTARY INFORMATION: Section 7 of FIFRA requires that all establishments that produce any pesticide or active ingredient used in producing a pesticide, or device subject to this Act be registered with the Agency, and that all such establishments submit annual production reports to the Agency. The EPA regulations at 40 CFR part 167 establish requirements concerning these annual reports and the information that must be in annual reports (40 CFR 167.85). The regulations state that establishment registrations will be subject to termination if an annual report is not submitted (40 CFR 167.20(f)).

Notwithstanding the requirements identified above, no annual production reports were received from the establishments identified in this document in 1997, 1998, 1999 and/or 2000. The mailings sent to the last reported address of the companies identified in this document were returned unopened to the Agency, with indications of “undeliverable” or “address unknown” as the reason for the return. Subsequent attempts to locate a number of the identified companies and establishments were unsuccessful. Additionally, some of the companies and/or establishments are out of business. Therefore, the Agency is terminating, without further notice, the registrations of the identified establishments pursuant to 40 CFR 167.20(f) for failure to submit the annual reports in 1997, 1998, 1999 and/or 2000.

Following termination of each domestic pesticide producing establishment's registration, sale or distribution in the United States of any pesticide product in an establishment subsequent to the termination of that establishment's registration will be considered unlawful and a violation of section 12 of FIFRA, subject to possible civil and/or criminal penalties. This document will not preclude the Agency from seeking other appropriate remedies necessary for compliance with FIFRA.

Following termination of each foreign pesticide producing establishment's registration, no pesticide product produced in that establishment may be imported into the United States.

Environmental Protection Agency List of EPA Regional Offices and Responsible Contacts
EPA regional office | States
U.S. EPA, Region 1, 1 Congress Street, Suite 1100 (SEA), Boston MA 02203-2211, ATTN: Lee Weller, Telephone: 617-918-1849 | CT, MA, ME, NH, RI, VT
U.S. EPA, Region 2, Pesticides Team (MS-500), 2890 Woodbridge Avenue, Bldg. 5, Edison, NJ 08337-3679, ATTN: David Salkie, Telephone: 732-321-6750 | NJ, NY, PR, VI
U.S. EPA, Region 3, Pesticides Programs (3WC32), 1650 Arch Street, Philadelphia, PA 19103-2029, ATTN: Kyla Townsend-McIntyre, Telephone: 215-814-2045 | DE, DC, MD, PA, VA, WV
U.S. EPA, Region 4, AFC Pesticides Section (APTMD), 61 Forsyth Street, SW, Atlanta, GA 30303-8960, ATTN: Jacquelyn Wilkerson, Telephone: 404-562-9011 | AL, FL, GA, KY, MS, NC, SC, TN
U.S. EPA, Region 5, PTES (DT-8J), 77 W. Jackson Blvd., Chicago, IL 60604-3507, ATTN: Gail Muffitt, Telephone: 312-886-6008 | IL, IN, MI, MN, OH, WI
U.S. EPA, Region 6, Pesticides Section (6PD-P), 1445 Ross Avenue, Dallas, TX 75202-2733, ATTN: James Redd, Telephone: 214-665-7560 | AR, LA, NM, OK, TX
U.S. EPA, Region 7, (WWPD/PEST), 901 N. 5th Street, Kansas City, KS 66101, ATTN: Lou Banks, Telephone: 913-551-7125 | IA, KS, MO, NE
U.S. EPA, Region 8, Enforcement Division (ENF-PT), 999 18th Street, Suite 300, Denver, CO 80202-2466, ATTN: Cornelia Maes, Telephone: 303-312-6049 | CO, MT, ND, SD, UT, WY
U.S. EPA, Region 9, Pesticides Section (CMD-4-3), 75 Hawthorne Street, San Francisco, CA 94105, ATTN: Glenda Dugan, Telephone: 415-947-4204 | AZ, CA, HI, NV, AS, GU
U.S. EPA, Region 10, Pesticides Unit (ECO-084), 1200 Sixth Avenue, Seattle, WA 98101, ATTN: Eva Chun, Telephone: 206-553-1970 | AK, ID, OR, WA

EPA Office and Responsible Contact for All Foreign Pesticide Producers

United States Environmental Protection Agency, Office of Enforcement and Compliance Assurance, Office of Compliance, Agriculture Division (2225A), 1200 Pennsylvania Avenue, NW, Washington, DC 20460 USA, Attn: Carol L. Buckingham, Telephone 202-564-5008, Fax: 202-564-0085, e-mail: buckingham.carol@epa.gov.½

List of Domestic and Foreign Companies With Specific Pesticide-Producing Establishments To Be Terminated
Domestic company name and mailing address | Domestic pesticide producing establishment number, name and site address
EPA Region 1: (No Listings)
EPA Region 2:
Seacoast Laboratories, Old Georges Road, P.O. Box 373, Dayton, NJ 08810 | 001159-NJ-001, Seacoast Laboratories, Inc., Old Georges Road, Dayton, NJ 08810.
OSR Cleaning Specialties Co. Inc., 18 Bridge Street, Brooklyn, NY 11202 | 004029-NY-001, OSR Cleaning Specialties Co. Inc., 18 Bridge Street, Brooklyn, NY 11202.
Corbin Chemical Corp., 126 25th Street, Brooklyn, NY 11232 | 012325-NY-001, Corbin Chemical Corp., 126 25th Street, Brooklyn, NY 11232.
EPA Region 3:
Sunshine Quality Products, PO Box 197, Industrial Park, Frackville, PA 17931 | 041260-PA-001, SQP Transition Corporation, PO Box 197, Frackville Industrial Park, Frackville, PA 17931.
McBroom Pool Products, Inc., 113 S. Witchduck Road, Virginia Beach, VA 23462 | 050778-VA-001, McBroom Pool Products, Inc., 113 S. Witchduck Road, Virginia Beach, VA 23462.
Augias Environmental Corporation, 13884 Park Center Road, Herndon, VA 22071 | 066376-VA-001, Augias Environmental Corporation, 13884 Park Center Road, Herndon, VA 22071.
Barnacle Ban Corporation, 2275 Swallow Hill Road, Bldg. 2500, Pittsburgh, PA 15220 | 068316-PA-001, Barnacle Ban Corporation, 2275 Swallow Hill Road, Bldg. 2500, Pittsburgh, PA 15220.
EPA Region 4:
Steve's Pool Service, 11415 Road, Largo, FL 33773 | 057179-FL-001, Steve's Pool Service, 11415 Starkey Starkey Road, Largo, FL 33773.
Imperial Custom Packaging Inc., PO Box 1141, Fort Lauderdale, FL 33302 | 070504-FL-001, Imperial Custom Packaging Inc., 716 NW 7th Avenue, Fort Lauderdale, FL 33311.
Vision Technologies Inc., PO Box 750665, Memphis, TN 38175 | 070798-TN-001, Vision Technologies Inc., 4050 Getwell Road, Memphis, TN 38118.
Outback Pools, 4729 Alabama Highway, Rome, GA 30165 | 071813-GA-001, Outback Pools, 4729 Alabama Highway, Rome, GA 30165.
Harry's Place, 14551 NE 145th Avenue, Silver Springs, FL 34488 | 072110-FL-001, Harry's Place, 14551 NE 145th Avenue, Silver Springs, FL 34488.
Chempro International, 6995 NW 82nd Avenue, Suite 37, Miami, FL 33166 | 073555-FL-001, Chempro International, 6995 NW 82nd Avenue, Suite 37, Miami, FL 33166.
EPA Region 5:
Archem Corporation, 11th Street, PO Box 767, Portsmouth, OH 45662 | 007122-OH-001, Archem Corporation, U.S. Rt. 23 N, Portsmouth, OH 45662.
Uniclean, Inc., P.O. Box 166, North Olmsted, OH 44070 | 007392-OH-001, Uniclean, Inc., 5200 Mills Industrial Parkway, North Ridgeville, OH 44039.
Countrymark Cooperative, Inc., 4565 Columbus Pike, Delaware, OH 43015 | 033272-OH-001, Land O' Lakes, 602 Findlay Road, Fostoria, OH 44830.
| 033272-OH-011, Countrymark Cooperative, Inc, 601 Goodrich Road, Bellevue, OH 44811.
Ajax Adhesives Industries, 1314 W. 21st Street, Chicago, IL 60608 | 045488-IL-001, Ajax Adhesives Industries, 1314 W. 21st Street, Chicago, IL 60608.
Central Indiana Farm Bureau Coop, Inc., 1530 W. Epler Avenue, Indianapolis, IN 46217 | 053672-IN-005, Cumberland Central Indiana Farm Bureau, 229 S. Muessing, Indianapolis, IN 46229.
R. Carlson Company, Inc., 421 Demers Avenue, E Grand Forks, MN 56721 | 055460-MN-001, R. Carlson Co., Inc., 317 W. Robert Street, Crookston, MN 56716.
A-G Coopertive Creamery, 502 W. Main Street, Arcadia, WI 54612 | 057863-WI-004, A-G Co-Op, Winnebago Rd. Galesville, WI 54630.
Schultz Agri-Service, Inc., Hwy. 89 South, PO Box 56, Lake Mills, WI 53551 | 062157-WI-001, Schultz Agri-Service, Inc., 1324 S. Main Street, Lake Mills, WI 53551.
LaFleur Pool Service, Inc., 555 S. River Street, Batavia, IL 60510 | 062652-IL-001, LaFleur Pool Service, Inc., 555 S. River Street, Batavia, IL 60510.
School Grain Inc., 5085 S. 500 West, Jamestown, IN 46147 | 063444-IN-001, School Grain, Inc., Route 1 500 S. & 500 W., Jamestown, IN 46147.
Omega Laboratories, Inc., 2121 Brookshire Road, Fairlawn, OH 44313 | 064152-OH-001, Omega Laboratories, Inc., 200 Industrial Parkway, Chargin Falls, OH 44022.
Bio-Medica Concepts, 4503 Williamsburg Road NW, Cincinnati, OH 45215 | 064233-OH-001, Bio-Medica Concepts, 8645-B Cincinnati-Columbus Road, Cincinnati, OH 45069.
Maynard Mickelson Co., 1005½ Lacrosse Street, Lacrosse, WI 54601 | 064360-WI-001, Maynard Mickelson Co., 1005½ Lacrosse Street, Lacrosse, WI 54601.
H&S Chemical Co., Inc., PO Box 17186, Cincinnati, OH 45217 | 065169-OH-001, H&S Chemical Co., Inc., 300 Murray Road, Cincinnati, OH 45217.
Farmers Cooperative Elevator Co., 30 Spring Street, PO Box 247, Kent City, MI 49330 | 065408-MI-001, Farmers Cooperative Elevator Co., 30 Spring Street, Kent, Michigan 49330.
Wayzata Bay Products, Inc., PO Box 217, St. Bonifacius, MN 55375 | 066148-MN-001, Wayzata Bay Products, Inc., 4358 S. County Road 92, St. Bonifacius, MN 55375.
BCW, Inc., PO Box 174, Pendleton, IN 46064 | 066154-IN-001, BCW, Inc., 6368 So SR 67 Pendleton, IN 46064.
Sacon Laboratories International, Inc., 459 Busse Road, Elk Grove Village, IL 60007 | 066389-IL-001, Sacon Laboratories International, Inc., 459 Busse Road, Elk Grove Village, IL 60007.
Associated Chemical & Equipment, 22401 Industrial Blvd., Rogers, MN 55374 | 066698-MN-001, Associated Chemical & Equipment, 22401 Industrial Blvd., Rogers, MN 55374.
Whitlock Group, PO Box 4141, Des Plaines, IL 60016 | 068248-IL-001, Whitlock Group, 915 Pingree Road, Crystal Lake, IL 60014.
Nu Look Enterprises, 2900 17th Avenue South, Minneapolis, MN 55407 | 068806-MN-001, Nu Look Enterprises, 6980 Oxford Street, Minneapolis, MN 55426.
Solution Company LLC, 529 Crescent Avenue, South Bend, IN 46607 | Solution Company LLC, 529 Crescent Avenue, South Bend, IN 46607.
Packaging Technologies Group, Inc., 4230 Lee Avenue, Gurnee, IL 60031 | Packaging Technologies Group, Inc., 4230 Lee Avenue, Gurnee, IL 60031.
Chem-I, Inc., 6215 Cedar Avenue, Cleveland, OH 44103 | Chem-I, Inc., 6215 Cedar Avenue, Cleveland, OH 44103.
Alexis Chemical Co., 310 25th Avenue, Bellwood, IL 60104 | 071163-IL-001, Alexis Chemical Co., 310 25th Avenue, Bellwood, IL 60104.
Warren Industries, Inc., 3100 Mt. Pleasant Street, Racine, WI 53404 | 073434-WI-002, Warren Industries, Inc., 2825 Four Mile Road, Racine, WI 53404.
EPA Region 6: (No Listings)
EPA Region 7:
Universal Technology Inc, PO Box 6, Carl Junction, MO 64834 | 052585-MO-001, Universal Technology Inc., 813 Joplin Street, Carl Junction, MO 64834.
Crookston Grain & Fertilizer, Box 248, Crookston, NE 69212 | 056037-NB-001, Crookston Grain & Fertilizer, 1st & Main, Crookston, NE 69212.
Johnson's Val-U-Line, Inc., PO Box 275, Auxvasse, MO 65231 | 063437-MO-001, Johnson's Val-U-Line, Inc., Hwy 54 North, Auxvasse, MO 65231.
Vanguard Chemical Corp., 1110 Washington Avenue, St. Louis, MO 63101 | 065226-MO-001, Vanguard Chemical Corp., 1110 Washington Avenue, St. Louis, MO 63101.
Spray Technology International Ltd., 1851 110th Street, Bode, IA 50519 | 069628-IA-001, Spray Technology, 1851 110th Street, Bode, IA 50519.
Barnard Grain Co., PO Box 88, Barnard, KS 67418 | 070008-KS-002, Jewell Agri Service, 620 North Sheridan, Jewell, KS 66949-0576.
EPA Region 8:
HBH Enterprises/Lamar Aquarium, 820 W. Center Street, Provo, UT 84601 | 065643-UT-001, Lamar Aquarium Products, 820 W. Center Street, Provo, UT 84601.
EPA Region 9:
ABA-TRON Industries, Inc., PO Box 6341, Beverly Hills, CA 91203 | 045265-CA-001, ABA-TRON Industries, Inc., 651 W. California Avenue, Suite 2, Glendale, CA 91203.
Focus 21 International, 2755 Dos Aarons Way, Vista, CA 92083 | 064048-CA-001, Focus 21 International, 2755 Dos Aarons Way, Vista, CA 92083.
H.B. Gordon Manufacturing Company, 400 N. Nash Street, El Segundo, CA 90245 | 064055-CA-001, H.B. Gordon Manufacturing Company, 400 N. Nash Street, El Segundo, CA 90245.
Aquasave Pool & Water Technology, 825 S. 7th Street, Phoenix, AZ 85036 | 065955-AZ-001, Aquasave Pool & Water Technology, 825 S. 7th Street, Phoenix, AZ 85036.
Fleaxperts, Inc., 8993 Complex Drive, San Diego, CA 92123 | 066144-CA-001, Fleaxperts, Inc., 8993 Complex Drive, San Diego, CA 92123.
Copperlok Systems, 4181 Lincoln Avenue, Culver City, CA 90230 | 067850-CA-001, Copperlok Systems, 11900 Jefferson Boulevard, Culver City, CA 90230.
Sakura, 2001 International Corp., 1622 Hallgreen Drive, Walnut, CA 91789 | 068270-CA-001, Sakura, 2001 International Corp., 1622 Hallgreen Drive, Walnut, CA 91789.
Inland Products, Inc., 2304 W. Fillmore, Phoenix, AZ 85036 | 069271-AZ-001, Inland Products, Inc., 2304 W. Fillmore, Phoenix, AZ 85036.
Wild Products Group, 2485 E. Vemon Avenue, Vemon, CA 90058 | 070257-CA-001, Wild Products Group, 2485 E. Vemon Avenue, Vemon, CA 90058.
Wiz Out, Inc., 1255 Activity Drive ‘A’, Vista, CA 92083 | 070822-CA-001, Wiz Out, Inc., 1255 Activity Drive ‘A’, Vista, CA 92083.
EPA Region 10:
DRC Company, 408 Metcalf Street, Sedro Woolley, WA 98284 | 040685-WA-002, Kemrite Inc., 408 Metcalf Street, Sedro Woolley, WA 98284.
Power One Industrial Supplies, Box 804, Baker City, OR 97914 | 067718-OR-001, Power One Industrial Supplies, 2700 Broadway, Baker City, OR 97914.
M.S. Magnetic Technology, 621 5th Street, SW, Puyallup, WA 98371 | 068045-WA-001, M.S. Magnetic Technology, 621 5th Street, SW, Puyallup, WA 98371.
CSI, P.O. Box 3631, Seattle, WA 98124 | 070330-WA-001, CSI, 5109 238th Place SW, Mountlake Terrace, WA 98043.

Foreign company name and mailing address | Foreign pesticide producing establishment number, name and site address
Nippon Kayaku c/o Nichimen (Che Dept), 1185-6th Avenue, New York, NY 10036 | 033649-JP-001, Nippon Kayaku, New Kaijo BL. 1-2-1 Maru Chiy, Tokyo, Japan.
| 033649-JP-002, Kashima Plant, Nippon Kayaku Co., ltd., 6, Snayama Kasaki-cho, Kashima, Ibaragi-Ken, Japan.
| 033649-JP-003, Ooji Plant, Nippon Kayaku Co., Ltd., 31-12, Shimo 3-Chome, Kita-ku, Tokyo, Japan.
Chemol RT c/o Agrichemical Services Inc., c/o Agrichemical Services, Inc., PO Box 808, Isle of Palms, SC 29451 | 033675-HG-001, Chemol RT, PMV Sajobabony, 3792 Sajobabony, Hungary.
Sandoz Agro. Mktg & Logistics, Basle CH 4002, Basle, Switzerland | 034818-SW-001, Sandoz Ltd., Agro Division, Lichtstrasse 35, Basel CH-4002, Switzerland.
| 034818-SW-002, Sandoz Ltd., Agro Division, Rothausstrasse 61, Muttenz CH-4132, Switzerland.
Industrias Agricolas S.A. DE C.V., PO Box 507, Calexico, CA 92232-0507 | 036331-MX-001, Industrias Agricolas, S.A. DE. C.V., KM. 14.5 Carreteraa San Louis, Mexicali, B.C. C.P. Mexico.
Calabrian Chemicals, c/o Laura Gimpelson, 15600 J.F. Kennedy Boulevard, Suite 570, Houston, TX 77032 | 039295-BG-001, Chem Combine, C Srednogorie, Street not shown, Srednogorie, Bulgaria.
| 039295-MEX-001, Proveedora Quimica IND, Av Industrias 4318, Chihuahua 31430, Mexico.
| 039295-PE-001, Sulfato De Cobre, Av. Tacna 543, Lima, Peru.
| 039295-UR-001, Sojuzchimexport, 121200 Agro Chim Dept, Moscow, Russia.
| 039295-YG-001, Zupa, Not shown, Krusevac, Yugoslavia.
Delmar Chemicals Inc., PO Box 200, Lasalle, Quebec, Canada H8R 3V3 | 043406-CN-001, Delmar Chemicals, Inc., 9321 Airlie Street, Lasalle, Quebec, Canada H8R 2B2.
Sun Ko Chemical Co. Ltd., No. 12, Lane 42 Jen-Hua Road, Ta-Li Hisang Taichng, Taiwan | 043842-TW-001, Sun Ko Chemical Co. Ltd., No.53, Chung-Ming Road, Taichung 403, R.O.C., Taiwan.
| 043842-WG-001, Riedel-Haen Ag, Wunstorfer Strass 40 Seelze, Seelze 1, Germany.
Commercial Manu S.A., Casilla 715, Lima 100, Peru | 046821-PE-001, Commerical Manu S.A., Casilla 715, Lima 100, Peru.
Mansion Enterprises California, Inc., 525 De La Fuente, Monterey Park, CA 91754 | 049573-TW-001, New Mansion Industrial Co., 93-13, Ta Pien Tou, Hou Chuo Will, San Chih Tsiang, Taiwan.
Nichimen America Inc. Attn: L. Ossi, 1185 Avenue of the Americas, New York, NY 10036 | 050269-KR-001, Seo Han Chemical, 363-3, Mae Tan Dong, Kyung Gi Do, Su Weon City, Korea.
Harvex Agromart Inc, PO Box 220, Kemptville, Ontario Canada K0G1J0 | 052047-CN-001, Harvex Agromart Inc., Hwy. 43 East, Kemptville, Ontario Canada K0G1JO.
Kingshome, Ltd., 10-5, 750, Tun Hwa S. Road, (World Bldg), Taipei, Taiwan | 052773-TW-001, 7-4F No. 128 Tung Hwa S Road, Sec 2, Taspon Tawan ROC, Taiwan.
Agroquimicos Eq. c/o Bruce Knoblock, 11741 E. Tanque, Tuscon, AZ 85749 | 054675-MX-001, Agroquimicas y Equipos SA DE CV, Av. Jose Escandon Y Helguera Cruz N S, H. Matamoros, Tam. Mexico.
Nature Pool (Canada), Inc., 2155 Dunwin Drive, Ste #6, Mississauga, Canada L5L4M1 | 056954-CN-001, Owl Associates Ltd., 2155 Dunwin Drive, Ste #6, Mississauga, Canada L5L4M1.
Allseasons Environmental Control Inc., 10 Alden Road, Unit 6, Markham, Ontario Canada L3R 2SI | 061382-CN-001, Allseasons Environmental Control Inc., 11 Dominic Street, Unit 6, Bishop Falls, Newfoundland, Canada.
Caribbean Chemicals Industries Ltd., Carmichael House, St. George, Barbados | 062546-WN-001, Caribbean Chemicals Industries Ltd., Carmichael House, St. George, Barbados.
Noranda Sales Corporation Ltd., 12640 West Cedar Drive, Lakewood, CO 80228 | 062589-CN-001, Canadian Electrolytic Zinc Limited, 860 Cadieux Boulevard, Valleyfield, Canada.
| 062589-CAN-002, Horne Smelter, 101 Avenue Portelance, Rouyn-Normanda, Canada.
| 062589-CAN-003, Gaspe Mines Division, Murdochville, Murdochville, Canada.
| 062589-CAN-004, Brunswick Mining & Smelting Corp Ltd. Belledune, Belledune, Canada.
Wedeco Environmental, Inc., 4958 Hammermill Road, Tucker, GA 30084-6077 | 063804-WG-001, Wedeco GMBH, Daimlerstrasse 5, D-4900 Herford, Germany.
Norchem Ind (Canada) Inc. Diversey Corp., 12025 Tech Center Drive, Livonia, MI 48150 | 063957-CN-001, Norchem Ind. (Canada) Inc., Attn: H P Kats, 950 Michelin, Vimont, Laval, Quebec H7L 927 Canada.
Raab Ingenieria Ltda, c/o Roger Tenney, 4900 W Howe Road, Dewitt, MI 48820 | 064037-CH-001, Raab Ingenieria Ltda, Vicuna Mackenna N 3551, Santiago, Chile.
Solterra Minerals Inc. c/o Solterra Minerals Inc. (attn: Ray Lee), PO Box 650, Crossfield, Alberta, T0M 0S0 Canada | 064788-CN-001, Solterra Minerals Inc, 702 McCool Street, Crossfield, Alberta, T0M 0S0 Canada.
Tramsa, Av. Arenales No. 1868, Av. Lima 14, Peru | 066012-PE-001, Tramsa, Av. Arenales No. 1868, Av. Lima 14, Peru.
Agrivalu Technologies Corporation, 766 Waterford Avenue, Winnipeg, Manitoba Canada | 066291-CN-001, Agrivalu Technologies Corp, 766 Waterford Avenue, Winnipeg, Manitobia, Canada.
| 066291-CN-002, Indent Technologies Corp., 435 Ellice Avenue, Winnipeg, Manitoba, Canada.
| 066291-CN-003, Technologies Brokerage Inc., 745 Logan Avenue, Winnipeg, Manitoba, Canada.
Laboratorios Agroenzymas S.A. DE C.V., Hormona No. 9 Altos, Col. San Andres, Ato Naucalpan, Mexico | 067194-MX-001, Laboratorios Agroenzymas S.A. DE C.V., Eje North N. 3 sSgunda Seccion, Ciudad 1, Naucalpan, Mexico.
G.I. & J.P. Jefferys—“Jantra Moon”, c/o Tom Morgan, 19718 Auburn park, Spring, TX 77379 | 067290-AU-001, Moonbell, 1 Beveridge Road, 4164 Q'land, Thornlands, Australia.
Wilmarg Enterprise Ltd., 80 Nashdene Road, Unit 21, Scarborough, Ontario M1V 5G4 Canada | 067308-CN-001, Wilmarg Enterprise Ltd. 80 Nashdene Road, Unit 21, Scarborough, Ontario M1V 5G4 Canada.
Tata Oil Mills Co., Ltd c/o Agridyne Technologies, 2401 S. Foothill Drive, Salt Lake City, UT 84109 | 067610-IY-001, The Tata Oil Mills Co., Ltd., Tatapuram, PO Cochin, 682014 Kapala, India.
Hankin Atlas Ozone Systems Ltd. c/o Hankin Atlas Industries Ltd., 639 5th Avenue, SW, Suite 210, Calgary, Alberta T2P 0M9, Canada | 067792-CN-001, Hankin Atlas Ozone Systems Ltd., 690 Progress Avenue, Unit 12, Scarborough, Ontario M1H 3A6 Canada.
Litehouse Ind. Ltd., c/o Jones Chemicals Inc., 80 Munson Street, Leroy, NY 14482 | 068433-CAN-001, Litehouse Ind. Ltd., 2560 Mattheson Boulevard, E-Unit 117, Mississauga Canada.
Ozone by Nicholas Inc. c/o Sam-Son Dist, 203 Eggert Road, PO Box 248, Buffalo, NY 14225-0248 | 069041-CAN-001, Ozone by Nicholas Inc., 276 Wildcat Road, Downsview, Ontario M3J 2N5 Canada.
Standard Finis Oil Co., c/o Sharmyn Weljee, 1904 N I-35, Gainsville, TX 76240 | 069462-PAK-001, Standard Finis Oil Co., D/33 Site Avenue D, Karachi, Pakistan.

Authority: 7 U.S.C. 136.

Dated: January 11, 2002.
Richard Colbert,
Director, Agriculture Division, Office of Compliance, Office of Enforcement and Compliance Assurance.

[FR Doc. 02-1616 Filed 1-22-02; 8:45 am]

BILLING CODE 6560-50-P